DEPARTMENT OF TRANSPORTATION

Maritime Administration

[Docket No. DOT-MARAD 2015—0006]

Agency Requests for Renewal of a Previously Approved Information Collection(s): Effective U.S. Control (EUSC)/Parent Company

AGENCY: Maritime Administration, Department of Transportation.

ACTION: Notice and request for comments.

SUMMARY: The Maritime Administration (MARAD) invites public comments about our intention to request the Office of Management and Budget (OMB) approval to renew an information collection. The purpose of the collection is to aid in identifying oceangoing vessels that may be both useful and available to the Department of Defense for deploying U.S. military equipment (such as tanks and other tracked and wheeled vehicles) and the full range of supplies (including petroleum products and fuel) necessary to sustain a force in a foreign theater of operations. We are required to publish this notice in the Federal Register by the Paperwork Reduction Act of 1995, Public Law 104-13.

DATES: Written comments should be submitted by March 23, 2015.

ADDRESSES: You may submit comments [identified by Docket No. DOT-MARAD-2015-0006] through one of the following methods:

• Federal eRulemaking Portal: http://www.regulations.gov. Follow the online instructions for submitting comments.

• Fax: 1-202-493-2251.

• Mail or Hand Delivery: Docket Management Facility, U.S. Department of Transportation, 1200 New Jersey Avenue SE., West Building, Room W12-140, Washington, DC 20590, between 9 a.m. and 5 p.m., Monday through Friday, except on Federal holidays.

FOR FURTHER INFORMATION CONTACT: Russ Krause, 202-366-1031, Division of Sealift Operations and Emergency Response, U.S. Department of Transportation, 1200 New Jersey Avenue SE., Washington, DC, 20590.

SUPPLEMENTARY INFORMATION: OMB Control Number: 2133-0511.

Title: Effective U.S. Control/Parent Company.

Form Numbers: N/A.

Type of Review: Renewal of an information collection.

Background: The Effective U.S. Control (EUSC)/Parent Company collection consists of an inventory of foreign-registered vessels owned by U.S. citizens. Specially, the collection consists of responses from vessel owners verifying or correcting vessel ownership data and characteristics found in commercial publications. The information obtained could be vital in a national or international emergency and is essential to the logistical support planning operations conducted by Maritime Administration officials.

Respondents: U.S. citizens who own foreign-registered vessels.

Number of Respondents: 60.

Frequency: Annually.

Number of Responses: 60.

Total Annual Burden: 30 Hours.

Public Comments Invited: You are asked to comment on any aspect of this information collection, including (a) whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995; 44 U.S.C. Chapter 35, as amended; and 49 CFR 1:93.

Dated: January 13, 2015.
Julie P. Agarwal,
Secretary, Maritime Administration.

[FR Doc. 2015-00909 Filed 1-20-15; 8:45 am]

BILLING CODE 4910-81-P